DEPARTMENT OF COMMERCE

National Oceanic and Atmospheric Administration

RIN 0648-XA434

Fisheries of the Exclusive Economic Zone Off Alaska; Prohibited Species Donation Program

AGENCY: National Marine Fisheries Service (NMFS), National Oceanic and Atmospheric Administration (NOAA), Commerce.

ACTION: Notice; selection of an authorized distributor.

SUMMARY: NMFS announces the renewal of permits to SeaShare authorizing this organization to distribute Pacific salmon and Pacific halibut to economically disadvantaged individuals under the prohibited species donation (PSD) program. Salmon and halibut are caught incidentally during directed fishing for groundfish with trawl gear off Alaska. This action is necessary to comply with provisions of the PSD program and is intended to promote the goals and objectives of the North Pacific Fishery Management Council.

DATES: The permits are effective from July 8, 2011 through July 8, 2014.

ADDRESSES: Electronic copies of the PSD permits for salmon and halibut prepared for this action may be obtained from the Alaska Region Web site at http://www.alaskafisheries.noaa.gov.

FOR FURTHER INFORMATION CONTACT: Sarah Ellgen, 907-586-7228.

SUPPLEMENTARY INFORMATION:

Background

Fishing for groundfish by U.S. vessels in the exclusive economic zone of the Bering Sea and Aleutian Islands management area (BSAI) and Gulf of Alaska (GOA) is managed by NMFS in accordance with the Fishery Management Plan for Groundfish of the BSAI and the Fishery Management Plan for Groundfish of the GOA (FMPs). These FMPs were prepared by the North Pacific Fishery Management Council under the Magnuson-Stevens Fishery Conservation and Management Act, 16 U.S.C. 1801 et seq. Regulations governing the Alaska groundfish fisheries and implementing the FMPs appear at 50 CFR parts 600 and 679. Fishing for halibut in waters in and off Alaska is governed by the Convention between the United States and Canada for the Preservation of the Halibut Fishery of the North Pacific Ocean and Bering Sea (Convention). The International Pacific Halibut Commission (IPHC) promulgates regulations pursuant to the Convention. The IPHC's regulations are subject to approval by the Secretary of State with concurrence from the Secretary of Commerce. After approval by the Secretary of State and the Secretary of Commerce, the IPHC regulations are published in the Federal Register as annual management measures pursuant to 50 CFR 300.62.

Amendments 26 and 29 to the BSAI and GOA FMPs, respectively, authorize a salmon donation program and were approved by NMFS on July 10, 1996; a final rule implementing this program was published in the Federal Register on July 24, 1996 (61 FR 38358). The salmon donation program was expanded to include halibut as part of the PSD program under Amendments 50 and 50 to the FMPs that were approved by NMFS on May 6, 1998. A final rule implementing Amendments 50 and 50 was published in the Federal Register on June 12, 1998 (63 FR 32144). Although that final rule contained a sunset provision for the halibut PSD program of December 31, 2000, the halibut PSD program was permanently extended under a final rule published in the Federal Register on December 14, 2000 (65 FR 78119). A full description of, and background information on, the PSD program may be found in the preambles to the proposed rules for Amendments 26 and 29, and Amendments 50 and 50 (61 FR 24750, May 16, 1996, and 63 FR 10583, March 4, 1998, respectively).

Regulations at § 679.26 authorize the voluntary distribution of salmon and halibut taken incidentally in the groundfish trawl fisheries off Alaska to economically disadvantaged individuals by tax-exempt organizations through an authorized distributor. The Administrator, Alaska Region, NMFS (Regional Administrator), may select one or more tax-exempt organizations to be authorized distributors, as defined by § 679.2, based on the information submitted by applicants under § 679.26. After review of qualified applicants, NMFS must announce the selection each authorized distributor in the Federal Register and issue one or more PSD permits to each selected distributor.

Currently, SeaShare, a tax-exempt organization, is the sole authorized distributor of salmon and halibut taken incidentally in the groundfish trawl fisheries off Alaska. The salmon and halibut PSD permits became effective August 15, 2008 and authorize SeaShare to participate in the PSD program through August 15, 2011 (73 FR 35659, June 24, 2008).

On May 9, 2011, the Regional Administrator received two applications from SeaShare to renew its salmon and halibut PSD permits. Revisions to the applications were received on May 10, 2011. The Regional Administrator reviewed the applications and determined that they are complete and that SeaShare continues to meet the requirements for an authorized distributor under the PSD program. As required by § 679.26(b)(2), the Regional Administrator based his selection on the following criteria:

1. The number and qualifications of applicants for PSD permits. Seashare is the only applicant for PSD permits at this time. NMFS has previously approved applications submitted by SeaShare. As of the date of this notice, no other applications have been approved by NMFS. SeaShare has been coordinating the distribution of salmon taken incidentally in trawl fisheries since 1993, and of halibut taken incidentally in trawl fisheries since 1998, under exempted fishing permits from 1993 to 1996, and under the PSD program since 1996. SeaShare employs independent seafood quality control experts to ensure product quality is maintained by cold storage facilities and common carriers servicing the areas where salmon and halibut donations will take place.

2. The number of harvesters and the quantity of fish that applicants can effectively administer. Five shoreside processors and 87 catcher vessels delivering to shoreside processors, 17 catcher/processors, and two motherships and 11 catcher vessels delivering to motherships currently participate in the salmon donation program administered by SeaShare. Five shoreside processors and 87 catcher vessels participate in the halibut donation program administered by SeaShare. SeaShare has the capacity to receive and distribute salmon and halibut from up to 40 processors and the associated catcher vessels. Therefore, it is anticipated that SeaShare has more than adequate capacity for any foreseeable expansion of donations.

In 2008, 2009, and 2010, SeaShare recovered and donated 72,237 pounds, 59,233 pounds, and 52,262 pounds, respectively, of steaked salmon to food bank organizations. During these same years, SeaShare recovered and donated 17,716 pounds, 23,911 pounds, and 10,360 pounds, respectively, of steaked halibut to food bank organizations. The donations came from the BSAI trawl fisheries. NMFS does not have information to convert accurately the net weights of salmon and halibut to numbers of salmon and numbers of halibut.

3. The anticipated level of salmon and halibut incidental catch based on salmon and halibut incidental catch from previous years. The incidental catch of salmon and incidental catch mortality of halibut in the GOA and BSAI trawl fisheries are shown in the following table:

Area fishery | 2009 | 2010
BSAI Trawl Chinook Salmon Incidental Catch | 12,415 fish | 9,734 fish.
BSAI Trawl Other Salmon Incidental Catch | 47,497 fish | 14,965 fish.
GOA Trawl Chinook Salmon Incidental Catch | 7,898 fish | 54,178 fish.
GOA Trawl Other Salmon Incidental Catch | 2,355 fish | 1,857 fish.
BSAI Trawl Halibut Mortality | 2,802 mt | 2,736 mt.
GOA Trawl Halibut Mortality | 1,818 mt | 1,637 mt.
mt = metric tons.

Halibut incidental catch amounts are constrained by an annual prohibited species catch limit in the BSAI and GOA. Future halibut incidental catch levels likely will be similar to those experienced in 2009 and 2010. Chinook salmon prohibited species catch (PSC) limits are established for the BS pollock fisheries that when attained, result in the closure of pollock fishing. The Chinook salmon PSC limits for the Bering Sea pollock fishery were established by Amendment 91 to the FMP for Groundfish of the BSAI FMP (75 FR 53026, August 30, 2010). Salmon incidental catch limits are not yet established for the GOA. In general, salmon incidental catch amounts tend to be variable between years, making accurate prediction of future incidental take amounts difficult.

4. Number of vessels and processors participating in the PSD program. For the 2011 permit renewal, participation in the PSD program is being expanded beyond the BSAI to include GOA processors and vessels. Shoreside processors will increase from 5 to 15, and vessels delivering to shoreside processors will increase from 87 vessels to 166, with 31 of the 166 vessels participating in both the BSAI and GOA. Catcher processors participating in the PSD program for salmon will drop slightly from 17 to 16 under the 2011 permit renewal. Catcher vessels delivering to motherships will remain at 11 vessels.

NMFS issues PSD permits to SeaShare for a 3-year period unless the permits are suspended or revoked under § 679.26. The permits may not be transferred; however, they may be renewed following the application procedures in § 679.26.

If the authorized distributor modifies the list of participants in the PSD program or delivery locations, the authorized distributor must submit a modified list of participants or a modified list of delivery locations to the Regional Administrator.

These permits may be suspended, modified, or revoked under 15 CFR part 904 for violation of § 679.26 or other regulations in 50 CFR part 679.

Classification

This action is taken under § 679.26.

Authority: 16 U.S.C. 773 et seq.; 1801 et seq.; 3631 et seq.; Pub. L. 108-447.

Dated: July 1, 2011.
Margo Schulze-Haugen,
Acting Director, Office of Sustainable Fisheries, National Marine Fisheries Service.

[FR Doc. 2011-17203 Filed 7-7-11; 8:45 am]

BILLING CODE 3510-22-P